DEPARTMENT OF JUSTICE

[OMB Number 1122-0034]

Agency Information Collection Activities; Proposed eCollection eComments Requested; STOP Formula Grant Program Match Documentation Worksheet

AGENCY: Office on Violence Against Women, Department of Justice.

ACTION: 30-Day notice.

SUMMARY: The Office on Violence Against Women (OVW), Department of Justice (DOJ), will be submitting the following information collection request to the Office of Management and Budget (OMB) for review and approval in accordance with the Paperwork Reduction Act of 1995. The proposed information collection was previously published in the Federal Register on June 30, 2023, allowing a 60-day comment period.

DATES: Comments are encouraged and will be accepted for 30 days until September 21, 2023.

FOR FURTHER INFORMATION CONTACT: If you have comments especially on the estimated public burden or associated response time, suggestions, or need a copy of the proposed information collection instrument with instructions or additional information, please contact: Catherine Poston, Office on Violence Against Women, at 202-514-5430 or Catherine.poston@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1123-0034. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information collection

1. Type of Information Collection: Extension of a previously approved collection.

2. Title of the Form/Collection: STOP Formula Grant Program Match Documentation Worksheet.

3. Agency form number, if any, and the applicable component of the Department of Justice sponsoring the collection: 1122-0034. U.S. Department of Justice, Office on Violence Against Women.

4. Affected public who will be asked or required to respond, as well as a brief abstract: Affected Public: State, local and Tribal governments.

Abstract: The STOP Violence Against Women Formula Grants Program was authorized through the Violence Against Women Act of 1994 (VAWA) and amended and reauthorized in 2000, 2005, 2013 and 2022. The STOP (Services, Training, Officers, and Prosecutors) Violence Against Women Formula Grant Program funding is awarded to States and Territories. It enhances the capacity of local communities to develop and strengthen effective law enforcement and prosecution strategies to combat domestic violence, dating violence, sexual assault and stalking and to develop and strengthen comprehensive, holistic victim services. The grant funds must be distributed by STOP State administrators to subgrantees according to a statutory formula. The Department of Justice's Office on Violence Against Women administers the STOP Formula Grant Program funds which are awarded to States and territories to enhance the capacity of local communities to develop and strengthen effective law enforcement and prosecution strategies to combat violent crimes against women and to develop and strengthen victim services in cases involving violent crimes against women. Each State and territory must allocate 25 percent for law enforcement, 25 percent for prosecutors, 30 percent for victim services (of which at least 10 percent must be distributed to culturally specific community-based organizations), 5 percent to State and local courts, and 15 percent for discretionary distribution. VAWA provides for a 25 percent match requirement imposed on grant funds under the STOP Formula Grant Program. Thus, a grant made under this program may not cover more than 75 percent of the total costs of the project being funded. Under VAWA 2005, the State cannot require matching funds for a grant or subgrant for any Tribe, Territory, or victim service provider, regardless of funding allocation category. The State is exempted from matching the portion of the State award that goes to a victim service provider for victim services or that goes to Tribes. Territories are also exempted in full. States can receive additional waiver of match based on a petition to OVW and a demonstration of financial need. OVW will look at the time of closeout at the entities and purposes of funds and base the required match. The purpose of this information collection is to provide a worksheet for documenting the amount of matching funds required at the closeout of a specific fiscal year award under the STOP Formula Grant Program. The type of questions on the worksheet will include award number, award amount, amount of funds sub-awarded to victim service providers for victim services or to Tribes.

5. Obligation to Respond: Required to obtain or retain a benefit.

6. Total Estimated Number of Respondents: 51.

7. Estimated Time per Respondent: 10 minutes.

8. Frequency: Annual.

9. Total Estimated Annual Time Burden: 8.5 (9) hours.

10. Total Estimated Annual Other Costs Burden: $0.

If additional information is required, contact: Darwin Arceo, Department Clearance Officer, Policy and Planning Staff, Justice Management Division, United States Department of Justice, Two Constitution Square, 145 N Street NE, 4W-218 Washington, DC 20530.

Dated: August 17, 2023.
Darwin Arceo,
Department Clearance Officer for PRA, U.S. Department of Justice.

[FR Doc. 2023-18070 Filed 8-21-23; 8:45 am]

BILLING CODE 4410-14-P